DEPARTMENT OF THE TREASURY

Internal Revenue Service

Proposed Collection; Comment Request for the Annual Return/Report of Employee Benefit Plan

AGENCY: Internal Revenue Service (IRS), Treasury.

ACTION: Notice and request for comments.

SUMMARY: The Internal Revenue Service, as part of its continuing effort to reduce paperwork and respondent burden, invites the general public and other Federal agencies to take this opportunity to comment on information collections, as required by the Paperwork Reduction Act of 1995. The IRS is soliciting comments concerning the Annual Return/Report of Employee Benefit Plan.

DATES: Written comments should be received on or before July 8, 2019 to be assured of consideration.

ADDRESSES: Direct all written comments to Laurie Brimmer, Internal Revenue Service, Room 6526, 1111 Constitution Avenue NW, Washington, DC 20224.

FOR FURTHER INFORMATION CONTACT: Requests for additional information or copies of the forms and instructions should be directed to Martha R. Brinson, at (202) 317-5753, or at Internal Revenue Service, Room 6526, 1111 Constitution Avenue NW, Washington, DC 20224, or through the internet at Martha.R.Brinson@irs.gov.

SUPPLEMENTARY INFORMATION:

Title: Annual Return/Report of Employee Benefit Plan.

OMB Number: 1545-1610.

Form Number: 5500 and Schedules.

Abstract: The Annual Return/Report of Employee Benefit Plan is an annual information return filed by employee benefit plans. The IRS uses this information for a variety of matters, including ascertainment whether a qualified retirement plan appears to conform to requirements under the Internal Revenue Code or whether the plan should be audited for compliance. Form 5500-EZ (OMB Number: 1545-0956) is an annual return filed by a one-participant (owners/partners and their spouses) retirement plan or a foreign plan to satisfy certain annual reporting and filing requirements imposed by the Internal Revenue Code (Code). The IRS uses this data to determine if the plan appears to be operating properly as required under the Code or whether the plan should be audited.

Current Actions: PBGC, the Department of Labor (DOL), and the Internal Revenue Service (IRS) work together to produce the Form 5500 Annual Return/Report for Employee Benefit Plan and Form 5500-SF Short Form Annual Return/Report for Small Employee Benefit Plan (Form 5500 Series), through which the regulated public can satisfy the combined reporting/filing requirements applicable to employee benefit plans. The Form 5500 and Form 5500-SF are currently filed electronically through the web-based EFAST2 system. The Form 5500-EZ is currently filed on paper with the IRS or by answering a subset of questions on the Form 5500-SF, which is then filed electronically through EFAST2. The IRS plans to make the Form 5500-EZ available on the EFAST2 system for direct electronic filing instead of using Form 5500-SF. The Form 5500-EZ (currently OMB Number: 1545-0956) will also be subsumed under the OMB number for the Form 5500 and Form 5500-SF, 1545-1610 as a separate collection. The Form 5500-EZ would still be available to be filed on paper with the IRS.

Type of Review: Revision of a currently approved collection.

Affected Public: Business or other for-profit organizations, individuals and households, not-for profit institutions, and farms.

The number of filing and wage rates are unchanged from the 2019 5500/5500-SF submission Approved on April 26, 2019.

| 2019— Requested | Program change due to new statute | Program change due to agency discretion | Change due to adjustment in agency estimate | Change due to potential violation of the PRA | Previously approved
Annual Number of Responses for this IC | 804,000 | 0 |  | −29,000 | 0 | 833,000
Annual IC Time Burden (Hours) | 330,000 | 0 |  | −9,000 | 0 | 339,000
Annual IC Cost Burden (Dollars) | 127,898,000 | 0 |  | −4,763,000 | 0 | 132,661,000

Estimated Number of Respondents: 804,000.

Estimated Time per Respondent: 24.5 minutes.

Estimated Total Annual Burden Hours: 330,000.

The number of respondents and estimated response time are unchanged from the 2016 5500-EZ submission approved on December 27, 2016.

Estimated Number of Respondents: 250,000.

Estimated Time per Respondent: 27 hours, 5 minutes.

Estimated Total Annual Burden Hours: 7,005,000.

The following paragraph applies to all of the collections of information covered by this notice:

An agency may not conduct or sponsor, and a person is not required to respond to, a collection of information unless the collection of information displays a valid OMB control number. Books or records relating to a collection of information must be retained as long as their contents may become material in the administration of any internal revenue law. Generally, tax returns and tax return information are confidential, as required by 26 U.S.C. 6103.

Request for Comments: Comments submitted in response to this notice will be summarized and/or included in the request for OMB approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information.

Approved: May 1, 2019.
Laurie Brimmer,
Senior Tax Analyst.

[FR Doc. 2019-09389 Filed 5-7-19; 8:45 am]

BILLING CODE 4830-01-P